DEPARTMENT OF HOMELAND SECURITY

Transportation Security Administration

[Docket No. TSA-2018-0001]

Surface Transportation Security Advisory Committee (STSAC) Meeting

AGENCY: Transportation Security Administration, DHS.

ACTION: Committee management; Notice of Federal Advisory Committee public meeting.

SUMMARY: The Transportation Security Administration (TSA) will hold a meeting of the Surface Transportation Security Advisory Committee (STSAC) on November 17, 2022. Members of the STSAC will meet in person at the TSA Headquarters. A link to virtually participate in the meeting will be available to members of the public as discussed below under SUPPLEMENTARY INFORMATION/Public Participation. An agenda for the meeting can also be found under SUPPLEMENTARY INFORMATION.

DATES: The meeting will take place on Thursday, November 17, 2022. The meeting will begin at 12 p.m. and will adjourn at 4 p.m. Eastern Standard Time. As listed in the Public Participation section below, requests to attend the meeting, to address the STSAC, and/or for accommodations because of a disability, must be received by November 14, 2022.

ADDRESSES: The in-person meeting for STSAC members will be held at the TSA Headquarters, located at 6595 Springfield Center Drive, Springfield, Virginia 20598. Members of the public will be able to participate virtually via WebEx. See Public Participation below for information on how to register to attend the meeting. Attendance information will be provided upon registration.

FOR FURTHER INFORMATION CONTACT: Judith Harroun-Lord, Surface Transportation Security Advisory Committee, Designated Federal Officer, U.S. Department of Homeland Security, Transportation Security Administration, 6595 Springfield Center Drive, Springfield, Virginia 20598, STSAC@tsa.dhs.gov, 571-227-2283.

SUPPLEMENTARY INFORMATION:

I. Background

TSA is providing notice of this meeting in accordance with section 1969 of the TSA Modernization Act, Division K of the FAA Reauthorization Act of 2018, Public Law 115-254 (132 Stat. 3186; Oct. 5, 2018), codified at 6 U.S.C. 204. The STSAC advises, consults with, reports to, and makes recommendations to the TSA Administrator on surface transportation security matters, including the development, refinement, and implementation of policies, programs, initiatives, rulemakings, and security directives pertaining to surface transportation security. The STSAC also considers risk-based security approaches in the performance of its duties. While the STSAC is exempt from the Federal Advisory Committee Act (5 U.S.C. App.), see 6 U.S.C. 205(f), paragraph 204(c)(6)(B) requires that TSA hold at least one public meeting each year.

II. Meeting Agenda

• Welcoming Remarks/Introductions

• Committee and Subcommittee briefings on activities, key issues, and focus areas for FY 2023—Cybersecurity Information Sharing; Emergency Management and Resiliency; Insider Threat; and Security Risk and Intelligence

• Public Comments

• Closing Comments and Adjournment

III. Public Participation

The meeting will be open to the public via WebEx. Members of the public, all non-STSAC members, and non-TSA staff who wish to participate, must register via email by submitting their name, contact number, and affiliation to STSAC@tsa.dhs.gov by November 14, 2022. Attendance may be limited due to WebEx meeting constraints. Attendees will be admitted on a first-to-register basis. Attendance information will be provided upon registration.

Members of the public wishing to present oral or written statements must make advance arrangements by November 14, 2022. The statements must specifically address issues pertaining to the items listed in Meeting Agenda discussed above; requests must be submitted via email to STSAC@tsa.dhs.gov. Speakers are required to limit their comments to three minutes.

The STSAC and TSA are committed to providing equal access to this meeting for all participants. If you need alternative formats or services because of a disability, please contact the person listed in the FOR FURTHER INFORMATION CONTACT section by November 14, 2022.

Dated October 18, 2022.
Eddie D. Mayenschein,
Assistant Administrator, Policy, Plans, and Engagement (PPE).

[FR Doc. 2022-23023 Filed 10-21-22; 8:45 am]

BILLING CODE 9110-05-P